INTERNATIONAL TRADE COMMISSION

[Investigation No. 731-TA-1046 (Second Review)]

Tetrahydrofurfuryl Alcohol From China: Determination

On the basis of the record ¹ developed in the subject five-year review, the United States International Trade Commission (Commission) determines, pursuant to section 751(c) of the Tariff Act of 1930 (19 U.S.C. 1675(c)), that revocation of the antidumping duty order on tetrahydrofurfuryl alcohol from China would be likely to lead to continuation or recurrence of material injury to an industry in the United States within a reasonably foreseeable time.

¹ The record is defined in sec. 207.2(f) of the Commission's Rules of Practice and Procedure (19 CFR 207.2(f)).

Background

The Commission instituted this review on November 3, 2014 (79 FR 65241) and determined on February 6, 2015 that it would conduct an expedited review (80 FR 10162, February 25, 2015).

The Commission completed and filed its determination in this review on April 6, 2015. The views of the Commission are contained in USITC Publication 4524 (April 2015), entitled Tetrahydrofurfuryl Alcohol from China: Investigation No. 731-TA-1046 (Second Review).

By order of the Commission.
Dated: April 6, 2015.
Lisa R. Barton,
Secretary to the Commission.

[FR Doc. 2015-08161 Filed 4-8-15; 8:45 am]

BILLING CODE 7020-02-P